SOCIAL SECURITY ADMINISTRATION

20 CFR Parts 404, 405, and 416

[Docket No. SSA-2007-0053]

Compassionate Allowances for Rare Diseases; Office of the Commissioner, Hearing

AGENCY: Social Security Administration (SSA).

ACTION: Advance Notice of Proposed Rulemaking; Announcement of Public Hearing and Limited Reopening of Comment Period.

SUMMARY: We are considering ways to quickly identify diseases and other serious medical conditions that obviously meet the definition of disability under the Social Security Act (the Act) and can be identified with minimal objective medical information. At present, we are calling this method “Compassionate Allowances.” We plan to hold four public hearings over the next year. The purpose of this first hearing is to obtain your views about the advisability and possible methods of identifying and implementing compassionate allowances for children and adults with rare diseases. We will address other kinds of medical conditions in later hearings.

DATES: Dates and location: We must receive written comments by December 21, 2007. Comments made at the hearings will be considered in preparation of a final rule. The first hearing will be held on December 4 and December 5, 2007, between 8:45 a.m. and 5:30 p.m. Eastern Standard Time (EST), in Washington, DC. The hearings will be held at 500 E Street, SW., Washington, DC 20436, in the main hearing room of the International Trade Commission. Space limitations and time constraints require hearing attendance to be by invitation only. However, you may listen to the proceedings by calling 1-888-456-0278, at 9 a.m., EST, the mornings of December 4 and 5. If you plan to listen in, please send an e-mail to Compassionate.Allowances@ssa.gov by November 21, 2007. Your e-mail will help ensure that we have enough telephone lines for everyone interested in listening to the proceedings.

ADDRESSES: You may submit up to two pages of written comments about the compassionate allowances initiative with respect to children and adults with rare diseases, as well as topics covered at the hearing by: (1) Internet through the Federal eRulemaking Portal at http://www.regulations.gov (2) e-mail addressed to Compassionate.Allowances@­ssa.gov or (3) mail to Diane Braunstein, Director, Office of Compassionate Allowances and Listings Improvement, ODP, ODISP, Social Security Administration, 4535 Annex, 6401 Security Boulevard, Baltimore, MD 21235-6401.

FOR FURTHER INFORMATION CONTACT: Compassionate.Allowances@ssa.gov. You may also mail inquiries about this meeting to Diane Braunstein, Director, Office of Compassionate Allowances and Listings Improvement, ODP, ODISP, Social Security Administration, 4535 Annex, 6401 Security Boulevard, Baltimore, MD 21235-6401. For information on eligibility or filing for benefits, call our national toll-free number 1-800-772-1213 or TTY 1-800-325-0778, or visit our Internet site, Social Security Online, at http://www.socialsecurity.gov.

SUPPLEMENTARY INFORMATION:

Background

Under titles II and XVI of the Act, we pay benefits to individuals who meet our rules for entitlement and have medically determinable physical or mental impairments that are severe enough to meet the definition of disability in the Act. The rules for determining disability can be very complicated, but some individuals have such serious medical conditions that their conditions obviously meet our disability standards. To better address the needs of these individuals, we are looking into ways to allow benefits as quickly as possible.

On July 31, 2007, we published an advance notice of proposed rulemaking (ANPRM) in the Federal Register to solicit the public's views on what standards we should use for making compassionate allowances, methods we might use to identify compassionate allowances and suggestions for how to implement those standards and methods. (See 72 FR 41649.) You may read the ANPRM at http://www.gpoaccess.gov/fr/index.html, or at http://www.regulations.gov where you may also read the public comments we received. The 60-day comment period on the overall compassionate allowances initiative ended on October 1, 2007. This notice constitutes a limited reopening of the comment period with respect to children and adults with rare diseases, as well as topics covered at the hearing on December 4 and 5, 2007.

Will We Respond to Your Comments?

We will carefully consider your comments, although we will not respond directly to comments sent in response to this notice or the hearing. Thereafter, we will decide whether to implement the compassionate allowances initiative and, if so, how the initiative will be implemented. If we decide to issue regulations addressing compassionate allowances, we will publish a notice of proposed rulemaking (NPRM) in the Federal Register. In accordance with the usual rulemaking procedures we follow, you will have a chance to comment on the revisions we propose in the NPRM, and we will summarize and respond to the significant comments in the preamble to any final rules.

Additional Hearings

We plan to hold additional hearings on cancers, chronic conditions, and traumatic injuries, and will announce those hearings later with notices in the Federal Register.

(Catalog of Federal Domestic Assistance Program Nos. 96.001, Social Security—Disability Insurance; 96.006, Supplemental Security Income.)

Dated: October 31, 2007.
Michael J. Astrue,
Commissioner of Social Security.

[FR Doc. E7-21828 Filed 11-5-07; 8:45 am]

BILLING CODE 4191-02-P